DEPARTMENT OF JUSTICE

Notice of Lodging of Proposed Consent Decree Under the Clean Air Act

On September 25, 2012, the Department of Justice lodged a proposed Consent Decree with the United States District Court for the District of Arizona in the lawsuit entitled United States v. CEMEX Construction Materials South, LLC, Civil Action No. CV-12-02020-PHX-DKD.

The United States filed this lawsuit under the Clean Air Act. The United States' complaint seeks injunctive relief and civil penalties for violations of regulations promulgated by the Maricopa County Air Quality Department concerning fugitive dust emissions. The complaint alleges that the violations occurred at the defendant's aggregate mining and processing and concrete production facility in Mesa, Arizona. The Consent Decree requires the defendant to pay a $90,000 civil penalty and to implement injunctive relief at similar, active facilities that are owned or operated by the defendant in Maricopa County, Arizona. The Consent Decree resolves the civil claims alleged in the complaint and in the Finding and Notice of Violation issued to the defendant in September 2010.

The publication of this notice opens a period for public comment on the Consent Decree. Comments should be addressed to the Assistant Attorney General, Environment and Natural Resources Division, and should refer to United States v. CEMEX Construction Materials South, LLC, D.J. Ref. No. 90-5-2-1-10139. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $10.25 (25 cents per page reproduction cost) payable to the United States Treasury.

Maureen Katz,
Assistant Section Chief, Environmental Enforcement Section, Environment and Natural Resources Division.

[FR Doc. 2012-24162 Filed 10-1-12; 8:45 am]

BILLING CODE 4410-15-P